NATIONAL SCIENCE FOUNDATION

Advisory Panel For Neuroscience; Notice of Meeting

In accordance with the Federal Advisory Committee Act (Pub. L. 92-463, as amended), the National Science Foundation announces the following meeting;

Name: Advisory Panel for Neuroscience (1158).

Date and Time: May 3-4, 2001; 8 a.m. to 5 p.m.

Place: Room 545, 4121 Wilson Boulevard, Arlington, Virginia.

Type of Meeting: Part-Open.

Contact Person: Dr. Harald Vaessin, Program Director, Developmental Neuroscience, Division of Integrative Biology and Neuroscience, Suite 685, National Science Foundation, 4201 Wilson Boulevard, Arlington, Virginia 22230. Telephone: (703) 292-8423.

Purpose of Meeting: To provide advice and recommendations concerning proposals submitted to NSF for financial support.

Minutes: May be obtained from the contact person listed above.

Agenda: Open Session: May 3, 2001; 4 p.m. to 5 p.m. to discuss goals and assessment procedures. Closed Session: May 3, 2001; 8 a.m. to 4 p.m.; May 4, 2001; 8 a.m. to 5 p.m. To review and evaluate Developmental Neuroscience proposals as part of the selection process for awards.

Reason for Closing: The proposals being reviewed include information of a proprietary or confidential nature, including technical information; financial data, such as salaries; and personal information concerning individuals associated with the proposals. These matters are exempt under 5 U.S.C. 552b(c) (4) and (6) of the Government in the Sunshine Act.

Dated: April 3, 2001.
Susanne Bolton,
Committee Meeting Officer.

[FR Doc. 01-8529 Filed 4-5-01; 8:45 am]

BILLING CODE 7555-01-M